ENVIRONMENTAL PROTECTION AGENCY

[OECA-2003-0038; FRL-7627-9]

Agency Information Collection Activities; Submission to OMB for Review and Approval; Comment Request; NSPS for Secondary Brass and Bronze Production, Primary Copper Smelters, Primary Zinc Smelters, Primary Lead Smelters, Primary Aluminum Reduction Plants and Ferroalloy Production Facilities (40 CFR Part 60, Subparts M, P, Q, R, S and Z) (Renewal), EPA ICR Number 1604.07, OMB Control Number 2060-0110

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on February 29, 2004. Under OMB regulations, the Agency may continue to conduct or sponsor the collection of information while this submission is pending at OMB. This ICR describes the nature of the information collection and its estimated burden and cost.

DATES: Additional comments may be submitted on or before March 31, 2004.

ADDRESSES: Submit your comments, referencing docket ID number OECA-2003-0038, to (1) EPA online using EDOCKET (our preferred method), by email to docket.oeca@epa.gov, or by mail to: EPA Docket Center, Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division, Mail Code 2223A, Office of Compliance, Environmental Protection Agency, 1200 Pennsylvania Avenue, NW., Washington, DC 20460; telephone number: (202) 564-7027; fax number: (202) 564-0050; email address: malave.maria@epa.gov.

SUPPLEMENTARY INFORMATION: EPA has submitted the following ICR to OMB for review and approval according to the procedures prescribed in 5 CFR 1320.12. On May 19, 2003 (68 FR 27059), EPA sought comments on this ICR pursuant to 5 CFR 1320.8(d). EPA received no comments.

EPA has established a public docket for this ICR under Docket ID Number OECA-2003-0038, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NSPS for Secondary Brass and Bronze Production, Primary Copper Smelters, Primary Zinc Smelters, Primary Lead Smelters, Primary Aluminum Reduction Plants and Ferroalloy Production Facilities. (40 CFR part 60, subparts M, P, Q, R, S and Z) (Renewal)

Abstract: New Source Performance Standards (NSPS) for Secondary Brass and Bronze Production Plants, Primary Copper Smelters, Primary Lead Smelters, Primary Zinc Smelters, Primary Aluminum Reduction Plants and Ferroalloy Production Plants were developed to ensure that air emissions from these facilities do not cause ambient concentrations of particulate matter and certain gases to exceed levels that may reasonably be anticipated to endanger public health and the environment. Owners or operators of all affected facilities subject to NSPS must notify EPA of dates for startup, construction or modification, initial and repeat of performance tests, performance test results, demonstration of a continuous monitoring system (except for brass and bronze facilities), and of any physical or operational change that may increase the emission rate. In addition, primary copper, lead, and zinc smelters and ferroalloy plants are required to submit semiannually reports of excess emissions and monitoring system performance, and aluminum reduction plants must report excess emissions in each monthly performance test. Ferroalloy plants must also report any product change. Facilities must maintain records of performance test results, monitoring of operations and systems performance, and of any startup, shutdown, and malfunction. Specifically, primary smelters, aluminum reduction and ferroalloy production plants have daily or monthly recordkeeping requirements for certain operating parameters. In order to ensure compliance with the standards, adequate recordkeeping and reporting is necessary. This information is required for all sources subject to NSPS standards and enables the Agency to: (1) Identify the sources subject to the standard; (2) ensure initial compliance with emission limits; and (3) verify continuous compliance with the standard.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 169 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Secondary brass and bronze production plants, primary copper smelters, primary zinc smelters, primary lead smelters, primary aluminum reduction plants, and ferroalloy production facilities.

Estimated Number of Respondents: 18.

Frequency of Response: Semiannual and annual.

Estimated Total Annual Hour Burden: 4,914 hours.

Estimated Total Annual Cost: $443,000, includes $0 annualized capital, $132,000 annual O&M costs, and $311,000 annual labor costs.

Changes in the Estimates: There is a decrease of 437 hours in the total estimated burden currently identified in the OMB inventory of approved ICR burdens. This decrease in burden is due primarily to a decrease of the estimated total number of sources subject to several of the NSPS standards addressed by this ICR.

Dated: February 20, 2004.
Oscar Morales,
Director, Collection Strategies Division.

[FR Doc. 04-4467 Filed 2-27-04; 8:45 am]

BILLING CODE 6560-50-P